DEPARTMENT OF ENERGY

Federal Energy Regulatory Commission

[Project Nos. 4293-006 and 8736-003]

Christopher Anthony; Notice of Proposed Termination of Exemptions by Implied Surrender and Soliciting Comments, Motions To Intervene, and Protests

Take notice that the following hydroelectric proceeding has been initiated by the Commission and is available for public inspection:

a. Type of Proceeding: Proposed Termination of Exemptions by Implied Surrender.

b. Project No: 4293-006 and 8736-003.

c. Date Initiated: June 14, 2024.

d. Applicant: Christopher Anthony.

e. Name of Projects: Waverly Avenue and Pioneer Dam.

f. Location: The projects are located on the Sebasticook River, Somerset County, Maine. The projects do not include Federal lands.

g. Filed Pursuant to: 18 CFR 4.106.

h. Applicant Contact: Christopher Anthony, 46 Somerset Street, Pittsfield, ME 04996, (207) 487-5049.

i. FERC Contact: David Rudisail, (202) 502-6376, david.rudisail@ferc.gov.

j. Resource Agency Comments: Federal, State, local and Tribal agencies are invited to file comments on the described proceeding. If an agency does not file comments within the time specified for filing comments, it will be presumed to have no comments.

k. Deadline for filing comments, motions to intervene, and protests: July 22, 2024.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include the docket number P-4293-006. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Project Facilities: The Waverly Project works include: an 11-foot-high, 220 foot-long concrete encased timber crib dam; a 40-foot-long gate section at the west dam abutment; a 560 acre reservoir with a storage capacity of 560 acre-feet at elevation 213 mean sea level (msl); a forebay intake structure; a powerhouse containing turbine-generator units with a combined capacity of 700 kW; a 200-foot-long transmission line; and appurtenant facilities. The project has not generated power since 2017.

The Pioneer Dam Project works include: an 8-foot-high, 170-foot-long concrete gravity dam, leased from the town of Pittsfield, with 2-foot-high flashboards and a crest elevation of 204 msl; a 400-foot-long wingwall; a 250-foot-long retaining wall; a 30-acre reservoir at elevation 202 msl; a 25-foot by 35-foot concrete forebay; an intake structure; a 26-foot by 26-foot powerhouse containing two turbine-generator units with a capacity of 150 kW each; a 130-foot-long transmission line; and appurtenant facilities. The project has not generated power since 2018.

m. Description of Proceeding: The exemptee is in violation of Standard Article 1 of the exemptions, which were granted on July 18, 1983, (24 FERC section 62,034) and June 3, 1985 (31 FERC section 62,280) for the Waverly and Pioneer Dam projects, respectively. The Commission's regulation 18 CFR 4.106 provides, among other things, that the Commission reserves the right to revoke an exemption if any term or condition of the exemption is violated.

In February 2020, November 2022, August 2023, and January of 2024, the Commission sent letters to the exemptee requiring them to file overdue reports, make necessary repairs, and restore operation of the projects or surrender the exemptions. The exemptee has not filed the overdue reports, made the repairs, or filed the surrender applications.

n. Location of the Order Granting Exemption for each project may be viewed on the Commission's website at http://www.ferc.gov using the “eLibrary” link. Enter the docket number (P-4293 or P-8736) excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 14, 2024.
Debbie-Anne A. Reese,
Acting Secretary.

[FR Doc. 2024-13717 Filed 6-21-24; 8:45 am]

BILLING CODE 6717-01-P